NUCLEAR REGULATORY COMMISSION

Sunshine Federal Register Notice

AGENCY HOLDING THE MEETINGS: Nuclear Regulatory Commission.

Date: Weeks of February 4, 11, 18, 25, March 3, 10, 2008

Place: Commissioners' Conference Room, 11555 Rockville Pike, Rockville, Maryland.

Status: Public and Closed.

Matters to be Considered:

Week of February 4, 2008

Thursday, February 7, 2008

12:55 p.m.

Affirmation Session (Public Meeting)

a. Final Rule—10 CFR 2.311 “Interlocutory Review of Rulings on Requests for Hearings/Petitions to Intervene, Selection of Hearing Procedures, and Requests by Potential Parties for Access to SUNSI and Safeguards Information” (RIN 3150-A108).

b. Final Rule—Regulatory Improvements to the Nuclear Materials Management and Safeguards System (RIN 3150-AH85).

Week of February 11, 2008—Tentative

Monday, February 11, 2008

12:55 p.m.

Affirmation Session (Public Meeting) (Tentative)

a. Final Rule—10 CFR Part 73 “Safeguards Information Protection Requirements” (RIN 3150-AH57) (Tentative).

1 p.m.

Discussion of Security Issues (Closed—Ex. 1).

Week of February 18, 2008—Tentative

Tuesday, February 19, 2008

10:30 a.m.

Meeting with the National Academies Radiation Source Use and Replacement Study Committee (Closed—Ex. 1).

Wednesday, February 20, 2008

9:30 a.m.

Periodic Meeting on New Reactor Issues, Part 1 (Public Meeting) (Contact: Donna Williams, 301-415-1322).

1:30 p.m.

Periodic Meeting on New Reactor Issues, Part 2 (Public Meeting) (Contact: Donna Williams, 301-415-1322).

This meeting, parts 1 and 2, will be webcast live at the Web address— http://www.nrc.gov.

Week of February 25, 2008—Tentative

There are no meetings scheduled for the Week of February 25, 2008.

Week of March 3, 2008—Tentative

There are no meetings scheduled for the Week of March 3, 2008.

Week of March 10, 2008—Tentative

There are no meetings scheduled for the Week of March 10, 2008.

* * * * *

*The schedule for Commission meetings is subject to change on short notice. To verify the status of meetings, call (recording)—(301) 415-1292. Contact person for more information: Michelle Schroll, (301) 415-1662.

* * * * *

The NRC Commission Meeting Schedule can be found on the Internet at: http://www.nrc.gov/about-nrc/policy-making/schedule.html.

* * * * *

The NRC provides reasonable accommodation to individuals with disabilities where appropriate. If you need a reasonable accommodation to participate in these public meetings, or need this meeting notice or the transcript or other information from the public meetings in another format (e.g. braille, large print), please notify the NRC's Disability Program Coordinator, Rohn Brown, at 301-492-2279, TDD: 301-415-2100, or by e-mail at REB3@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: January 31, 2008.
R. Michelle Schroll,
Office of the Secretary.

[FR Doc. 08-512 Filed 2-1-08; 10:37 am]

BILLING CODE 7590-01-P